DEPARTMENT OF LABOR

Occupational Safety and Health Administration

[Docket No. OSHA-2007-0030]

Request for Comments on Ergonomics for the Prevention of Musculoskeletal Disorders: Guidelines for Shipyards

AGENCY: Occupational Safety and Health Administration (OSHA), Labor.

ACTION: Request for comments.

SUMMARY: The Department of Labor is inviting comments on its draft document entitled “Ergonomics for the Prevention of Musculoskeletal Disorders: Guidelines for Shipyards.” The draft guidelines are available on OSHA's web page and through its publications office. Interested persons may submit written or electronic comments on the draft guidelines. The Agency may also hold a stakeholder meeting where the public is invited to express its views on the draft guidelines.

DATES: Written Comments: You must submit your comments by the following dates:

Regular mail, hand-delivery, express delivery, messenger or courier service: You must submit your comments (postmarked or sent) by November 13, 2007.

Facsimile and electronic transmission: You must submit your comments by November 13, 2007. OSHA is providing the public with 60 days to submit comments on the ergonomics guidelines for shipyards, as was the case with OSHA's ergonomics guidelines for nursing homes, retail grocery stores, and poultry processing.

Stakeholder meeting: Should stakeholders express sufficient interest, OSHA will hold a one-day stakeholder meeting to discuss the draft guidelines. OSHA requests that interested parties submit their requests for a stakeholder meeting through express delivery, hand delivery, messenger service, fax or electronic means by October 11, 2007.

ADDRESSES:

I. Submitting Comments and Requests for a Stakeholder Meeting

You may submit comments and requests for a stakeholder meeting in response to this document as a hardcopy, fax transmission (facsimile), or electronically. The additional materials must clearly identify your submissions by name, date, and docket number, Docket No. OSHA-2007-0030, so OSHA can attach them to your submissions.

(1) Regular mail, hand-delivery, express delivery, messenger, or courier service: You must submit three copies of your comments and attachments to the OSHA Docket Office, Docket No. OSHA-2007-0030, U.S. Department of Labor, Room N-2625, 200 Constitution Avenue, NW., Washington, DC 20210, telephone (202) 693-2350 (OSHA's TTY number is (877) 889-5627). The OSHA Docket Office and the Department of Labor hours of operation are 8:15 a.m. to 4:45 p.m., ET. To request a stakeholder meeting, you must submit one copy of your request by express mail, hand delivery, messenger and courier service to the above address.

Because of security-related procedures, the use of regular mail may cause a significant delay in the receipt of submissions. Please contact the OSHA Docket Office at: (202) 693-2350 (TTY (877) 899-5627) for information about security procedures concerning the delivery of materials by express delivery, hand delivery, and messenger service.

(2) Facsimile: If your comments, including any attachments, do not exceed 10 pages, you may fax them to the OSHA Docket Office at (202) 693-1648. You must include the docket number of this document, Docket No. OSHA-2007-0030, in your comments. You may also fax your request for a stakeholder meeting.

(3) Electronically: You may submit your comments or request for a stakeholder meeting electronically at: http://www.regulations.gov, which is the Federal e-Rulemaking Portal. Information on using the http://www.regulations.gov Web site to submit comments, requests for stakeholder meeting and attachments, and to access the docket, is available at the Web site's “User Tips” link. You may supplement electronic submissions by uploading document attachments and files electronically. If, instead, you wish to mail additional materials in reference to an electronic or fax submission, you must submit three copies to the OSHA Docket Office. Contact the OSHA Docket Office for assistance in using the internet to locate docket submissions.

II. Obtaining Copies of the Draft Guidelines

You can download the draft guidelines for the shipyard industry from OSHA's Web site at http://www.osha.gov. A printed copy of the draft guidelines is available from the OSHA Office of Publications, Room N-3101, U.S. Department of Labor, 200 Constitution Avenue, NW., Washington, DC 20210, or by telephone at (800) 321-OSHA (6742). You may fax your request for a copy of the draft guidelines to (202) 693-2498.

FOR FURTHER INFORMATION CONTACT: Michael Seymour, OSHA Directorate of Standards and Guidance, Room N-3718, U.S. Department of Labor, 200 Constitution Avenue, NW., Washington, DC 20210, telephone (202) 693-1950.

SUPPLEMENTARY INFORMATION:

I. Internet Access to Comments

All comments and submissions will be available for inspection and copying at the OSHA Docket Office at the above address. Comments and submissions will be posted without change at http://www.regulations.gov. Therefore, OSHA cautions commenters about submitting personal information such as social security numbers, dates of birth, etc. Although all submissions are listed in the http://www.regulations.gov index, some information (e.g., copyrighted material) is not publicly available to read or download through http://www.regulations.gov. Contact the OSHA Docket Office at (202) 693-2350 (TTY (877) 899-5627) for information about materials not available through the OSHA Web site and for assistance in using the Web site to locate docket submissions.

Electronic copies of this Federal Register document are available at http://www.regulations.gov. This document, news releases and other relevant information, also are available at OSHA's Web page at http://www.osha.gov.

II. Background

On April 5, 2002, the Department of Labor announced a four-pronged comprehensive approach for addressing musculoskeletal disorders (MSDs), which calls for OSHA to develop industry-or task-specific guidelines. OSHA's fourth industry-specific guidelines address ergonomic concerns in shipyards.

The draft guidelines contain an introduction and two main sections. The introduction provides an overview of MSDs in shipyards and explains the role of ergonomics in reducing the incidence of these injuries. A section entitled “Process for Protecting Employees” describes a process for developing and implementing a strategy for identifying ergonomic concerns, implementing ergonomic solutions, training, addressing reports of injuries, and evaluating progress.

The heart of the guidelines, the “Implementing Solutions” section, describes examples of ergonomic solutions (engineering solutions, work practices, and personal protective equipment) that may be used in shipyards to control exposure to ergonomics-related risk factors encountered in the industry. The recommendations cover site-wide ergonomics issues, material/equipment handling, power tools, metal work, shipside work, and personal protective equipment. The draft guidelines conclude with a list of references and sources of additional information that shipyards can use to help them with their ergonomic efforts.

OSHA encourages interested parties to comment on all aspects of the draft guidelines. The Agency is particularly interested in:

• Information about successful ergonomic efforts that shipyards have used to address ergonomic concerns,

• innovative solutions that shipyards have used to effectively solve ergonomic problems, and

• checklists or flowcharts that shipyards use to identify workplace problems, identify risk factors, or evaluate aspects of their ergonomics process.

III. Stakeholder Meeting

Should stakeholders express sufficient interest, OSHA will hold a stakeholder meeting following the close of the comment period. The Agency will announce the exact location and date of the stakeholder meeting prior to the close of the comment period.

This notice was prepared under the direction of Edwin G. Foulke, Jr., Assistant Secretary for Occupational Safety and Health. It is issued under sections 4 and 8 of the Occupational Safety and Health Act of 1970 (29 U.S.C. 653, 657).

Issued at Washington, DC, this 4th day of September, 2007.
Edwin G. Foulke, Jr.,
Assistant Secretary of Labor for Occupational Safety and Health.

[FR Doc. E7-17770 Filed 9-10-07; 8:45 am]

BILLING CODE 4510-26-P